DEPARTMENT OF TRANSPORTATION

Federal Highway Administration

23 CFR Part 490

[FHWA Docket No. FHWA-2013-0053]

RIN 2125-AF53

National Performance Management Measures; Assessing Pavement Condition for the National Highway Performance Program and Bridge Condition for the National Highway Performance Program

AGENCY: Federal Highway Administration (FHWA), DOT.

ACTION: Notice of proposed rulemaking; extension of comment period.

SUMMARY: The FHWA is extending the comment period for a notice of proposed rulemaking (NPRM) and request for comments, which was published on January 5, 2015, at 80 FR 326. The original comment period is set to close on April 6, 2015. The extension is based on concern expressed by the American Association of State Highway and Transportation Officials (AASHTO) and the Oregon Department of Transportation (Oregon DOT) that as a result of the scope and complexity of the NPRM the April 6 closing date does not provide sufficient time to review and provide comprehensive comments. The FHWA recognizes that others interested in commenting may have similar concerns and agrees that the comment period should be extended. Therefore, the closing date for comments is changed to May 8, 2015, which will provide AASHTO, the Oregon DOT, and others interested in commenting additional time to discuss, evaluate, and submit responses to the docket.

DATES: Comments must be received on or before May 8, 2015.

ADDRESSES: Mail or hand deliver comments to the U.S. Department of Transportation, Dockets Management Facility, 1200 New Jersey Avenue SE., Washington, DC 20590, or submit electronically at http://www.regulations.gov. All comments should include the docket number that appears in the heading of this document. All comments received will be available for examination and copying at the above address from 8:00 a.m. to 4:30 p.m., e.t., Monday through Friday, except Federal holidays. Those desiring notification of receipt of comments must include a self-addressed, stamped postcard or may print the acknowledgment page that appears after submitting comments electronically. Anyone is able to search the electronic form of all comments received into any of our dockets by the name of the individual submitting the comment (or signing the comment, if submitted on behalf of an association, business, labor union, etc.). You may review DOT's complete Privacy Act Statement in the Federal Register published on April 11, 2000 (Volume 65, Number 70, Pages 19477-78) or you may visit http://www.regulations.gov.

FOR FURTHER INFORMATION CONTACT: Francine Shaw Whitson, Office of Infrastructure, (202) 366-8028, or Anne Christenson, Office of Chief Counsel, (202) 366-1356, Federal Highway Administration, 1200 New Jersey Avenue SE., Washington, DC 20590-0001. Office hours are from 8:00 a.m. to 4:30 p.m. e.t., Monday through Friday, except Federal holidays.

SUPPLEMENTARY INFORMATION:

Electronic Access and Filing

You may submit or access all comments received by DOT online through: http://www.regulations.gov. Electronic submission and retrieval help and guidelines are available on the Web site. It is available 24 hours each day, 365 days each year. Please follow the instructions. An electronic copy of this document may also be downloaded from the Federal Register's home page at: http://www.federalregister.gov.

Background

Section 150 of title 23, U.S.C., identifies the national transportation goals and requires the Secretary by rule to establish performance measures in specified Federal-aid highway program areas. On January 5, 2015, FHWA published in the Federal Register an NPRM proposing to establish measures for State Departments of Transportation (State DOTs) to use to carry out the National Highway Performance Program (NHPP) and to assess the condition of the following: pavements on the National Highway System (NHS) (excluding the Interstate System), bridges on the NHS, and pavements on the Interstate System. The NHPP is a core Federal-aid highway program that provides support for the condition and performance of the NHS and the construction of new facilities on the NHS, and ensures that investments of Federal-aid funds in highway construction are directed to support progress toward the achievement of performance targets established in a State's asset management plan for the NHS. The NPRM proposed regulations for the new performance aspects of the NHPP, which address: measures, targets, and reporting.

The original comment period for the NPRM closes on April 6, 2015. The AASHTO and the Oregon DOT have expressed concern that this closing date does not provide sufficient time to review and provide comprehensive comments on the proposal. The FHWA recognizes that others interested in commenting may have similar concerns and agrees that the comment period should be extended. To allow time for this organization and others to submit comprehensive comments, the closing date is changed from April 6, 2015, to May 8, 2015.

Authority: 23 U.S.C. 104(b)(1), 119, and 150.

Issued on: February 9, 2015.
Gregory G. Nadeau,
Acting Administrator, Federal Highway Administration.

[FR Doc. 2015-03138 Filed 2-13-15; 8:45 am]

BILLING CODE 4910-22-P